DEPARTMENT OF DEFENSE

Office of the Secretary

Sunshine Act; Department of Defense Task Force on the Future of the Military Health Care

AGENCY: DoD; Office of the Assistant Secretary of Defense (Health Affairs).

ACTION: Notice of meeting.

SUMMARY: Pursuant to the Federal Advisory Committee Act of 1972 (5 U.S.C., Appendix, as amended) and the Sunshine in the Government Act of 1976 (5 U.S.C. 552b, as amended), announcement is made of the following committee meeting:

Name of Committee: Department of Defense Task Force on the Future of the Military Health Care, a duly established subcommittee of the Defense Health Board.

Date of Meetings: April 9 and April 10, 2007

Date of Meeting: April 9, 2007.

Time of Meeting: 1 p.m.-5 p.m.

Place of Meeting: (1 p.m.-3 p.m.) Brooke Army Medical Center, 3851 Roger Brooke Drive, Fort Sam Houston, Texas 78234. US Army Institute of Surgical Research, 3400 Rawley E. Chambers Avenue. (3:10 p.m.-5 p.m.) 3851 Roger Brooke Drive, Fort Sam Houston, Texas 78234, Center for the Intrepid.

Purpose of Meeting: To obtain, review, and evaluate information related to the Task Force's congressionally-directed mission to examine matters relating to the future of military health care. Both Preparatory Meetings will be held at the Brooke Army Medical Center. Pursuant to 41 Code of Federal Regulations, part 102-3.160, the Preparatory Meetings will be closed to the public.

Date of Meeting: April 10, 2007.

Time of Meeting: 9 a.m.-4 p.m.

Place of Meeting: Hyatt Regency, Hill Country Resort, 9800 Hyatt Resort Drive, San Antonio, Texas 78251.

Purpose of Meeting: To obtain, review, and evaluate information related to the Task Force's congressionally-directed mission to examine matters relating to the future of military health care. The Task Force members will receive briefings on topics related to the delivery of military health care during the public meeting.

Agenda: Panel Discussions with active, retired and Guard/reserve forces concerning a variety of issues affecting the military healthcare system.

Prior to the public meeting the Task Force will conduct an Administrative Meeting from 8:30 a.m. to 8:50 a.m. to discuss solely administrative matters of the Task Force. In addition, the Task Force, following its public meeting, will conduct a Preparatory Meeting from 4 p.m. to 4:30 p.m. to solely analyze relevant issues and facts in preparation for the Task Force's next meeting. Both the Administrative and Preparatory Meetings will be held at the Hyatt Regency Hill Country Ballroom, Pursuant to 41 Code of Regulations, Part 102-3.160, both the Administrative and Preparatory Meetings will be closed to the public.

Additional information and meeting registration is available online at the Defense Health Board Web site, http://www.ha.osd.mil/dhb.

Due to scheduling difficulties with the meeting facilities in San Antonio, Texas the Task Force was unable to finalize its agenda in time to publish notice of its meeting in the Federal Register for the 15-calendar days required by 41 CFR 102-3.150(a). Accordingly, the Committee Management Officer for the Department of Defense, pursuant to 41 CFR 102-3.150(b) waives the 15-calendar day notification requirement.

FOR FURTHER INFORMATION CONTACT: Colonel Christine Bader, Executive Secretary, Department of Defense Task Force on the Future of Military Health Care, Skyline One, 5205 Leesburg Pike, Suite 810, Falls Church, VA 22041, (703) 681-3279, ext. 109 (christine.bader@ha.osd.mil).

SUPPLEMENTARY INFORMATION: Open sessions of the meeting will be limited by space accommodations. Any interested person may attend; however, seating is limited to the space available at the Hyatt Regency Hill Country. Individuals or organizations wishing to submit written comments for consideration by the Task Force should provide their comments in an electronic (PDF Format) document to the Executive Secretary of the Department of Defense Task Force on the Future of Military Health Care, christine.bader@ha.osd.mil, no later than ten (10) business days prior to the scheduled meeting.

L.M. Bynum,
Alternate OSD Federal Register Liaison Officer, Department of Defense.

[FR Doc. 07-1598 Filed 3-28-07; 11:37 am]

BILLING CODE 5001-06-M